DEPARTMENT OF THE TREASURY

Internal Revenue Service

26 CFR Part 301

[TD 9410]

RIN 1545-BF54

Change to Office to Which Notices of Nonjudicial Sale and Requests for Return of Wrongfully Levied Property Must Be Sent; Correction

AGENCY: Internal Revenue Service (IRS), Treasury.

ACTION: Final regulations; correction.

SUMMARY: This document contains a correction to final regulations (TD 9410) that were published in the Federal Register on Tuesday, July 8, 2008 (73 FR 38915) relating to the discharge of liens under section 7425 and return of wrongfully levied upon property under section 6343 of the Internal Revenue Code of 1986. These regulations revise regulations currently published under sections 7425 and 6343. These regulations clarify that such notices and claims should be sent to the IRS official and office specified in the relevant IRS publications. The regulations will affect parties seeking to provide the IRS with notice of a nonjudicial foreclosure sale and parties making administrative requests for return of wrongfully levied property.

DATES: This correction is effective July 16, 2008, and is applicable on July 8, 2008.

FOR FURTHER INFORMATION CONTACT: Robin M. Ferguson, (202) 622-3630 (not a toll-free number).

SUPPLEMENTARY INFORMATION:

Background

The final regulations that are the subjects of this document are under sections 6343 and 7425 of the Internal Revenue Code.

Need for Correction

As published, final regulations (TD 9410) contain an error that may prove to be misleading and is in need of clarification.

Correction of Publication

Accordingly, the publication of the final regulations (TD 9410), which were the subject of FR Doc. E8-15460, is corrected as follows:

On page 38916, column 1, in the preamble, under the caption DATES:, lines 3 thru 4, the language “Applicability Date: See §§ 301.6343-2 and 301.6343-3.” is corrected to read “Applicability Date: See §§ 301.6343-2 and 301.7425-3.”.

LaNita Van Dyke,
Chief, Publications and Regulations Branch, Legal Processing Division, Associate Chief Counsel (Procedure and Administration).

[FR Doc. E8-16289 Filed 7-15-08; 8:45 am]

BILLING CODE 4830-01-P